DEPARTMENT OF ENERGY

U.S. Energy Information Administration

Agency Information Collection Extension

AGENCY: U.S. Energy Information Administration (EIA), Department of Energy.

ACTION: Agency Information Collection Activities: Information Collection Extension; Notice and Request for Comments.

SUMMARY: This notice pertains to Form EIA-877, “Winter Heating Fuels Telephone Survey,” which is part of EIA's Petroleum Marketing Program. EIA is proposing to expand the number of states that participate in the State Heating Oil and Propane Program (SHOPP) using Form EIA-877. No changes are proposed for the remaining survey forms within this collection. The following forms comprise the Petroleum Marketing collection:

EIA-14, “Refiners' Monthly Cost Report;”

EIA-182, “Domestic Crude Oil First Purchase Report;”

EIA-782A, “Refiners'/Gas Plant Operators' Monthly Petroleum Product Sales Report;”

EIA-782C, “Monthly Report of Prime Supplier Sales of Petroleum Products Sold For Local Consumption;”

EIA-821, “Annual Fuel Oil and Kerosene Sales Report;”

EIA-856, “Monthly Foreign Crude Oil Acquisition Report;”

EIA-863, “Petroleum Product Sales Identification Survey;”

EIA-877, “Winter Heating Fuels Telephone Survey;”

EIA-878, “Motor Gasoline Price Survey;”

EIA-888, “On-Highway Diesel Fuel Price Survey”.

Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before July 7, 2014. If you anticipate difficulty in submitting comments within that period, contact the person listed in ADDRESSES as soon as possible.

ADDRESSES: Written comments may be sent to Ms. Marcela Rourk, U.S. Department of Energy, U.S. Energy Information Administration, Mail Stop EI-25, Forrestal Building, 1000 Independence Avenue SW., Washington, DC 20585. To ensure receipt of the comments by the due date, submission by email (Marcela.Rourk@eia.gov) is recommended. Alternatively, Ms. Rourk may be contacted by telephone at 202-586-4412.

FOR FURTHER INFORMATION CONTACT: Requests for additional information or copies of the information collection instrument and instructions should be directed to Ms. Marcela Rourk at the contact information listed above. The forms and instructions, along with related information on this clearance package, can be viewed at http://www.eia.gov/survey/notice/marketing2014.cfm.

SUPPLEMENTARY INFORMATION: This information collection request contains: (1) OMB No. 1905-0174; (2) Information Collection Request Title: Petroleum Marketing Program; (3) Type of Request: revision of a currently approved collection; (4) Purpose: The Federal Energy Administration Act of 1974 (15 U.S.C. 761 et seq.) and the DOE Organization Act (42 U.S.C. 7101 et seq.) require EIA to carry out a centralized, comprehensive, and unified energy information program. This program collects, evaluates, assembles, analyzes, and disseminates information on energy resource reserves, production, demand, technology, and related economic and statistical information. This information is used to assess the adequacy of energy resources to meet near and longer term domestic demands.

EIA, as part of its effort to comply with the Paperwork Reduction Act of 1995 (44 U.S.C. 3501, et seq.), provides the general public and other Federal agencies with opportunities to comment on collections of energy information conducted by or in conjunction with EIA. Also, EIA will later seek approval for this collection by the Office of Management and Budget (OMB) under Section 3507(a) of the Paperwork Reduction Act of 1995.

EIA's petroleum marketing survey forms collect volumetric and price information needed for determining the supply of and demand for crude oil and refined petroleum products. These surveys provide a basic set of data pertaining to the structure, efficiency, and behavior of petroleum markets. These data are published by EIA on its Web site, http://www.eia.gov, as well as in publications such as the Monthly Energy Review (http://www.eia.gov/totalenergy/data/monthly/), Annual Energy Review (http://www.eia.gov/totalenergy/data/annual/), Petroleum Marketing Monthly (http://www.eia.gov/oil_gas/petroleum/data_publications/petroleum_marketing_monthly/pmm.html), Weekly Petroleum Status Report (http://www.eia.gov/oil_gas/petroleum/data_publications/weekly_petroleum_status_report/wpsr.html), and the International Energy Outlook (http://www.eia.gov/forecasts/ieo/); (4a) Proposed Changes to Information Collection: (1) Expand collection of weekly propane data on EIA-877, “Winter Heating Fuels Telephone Survey” to additional states; (2) Expand the Winter Heating Fuels Telephone Survey (EIA‐877) from 24 to 34 states and continue collection of data from October through mid‐March. This survey collects weekly data on retail prices of No. 2 heating oil and propane. These data are used to assess hardships experienced by heating oil and propane users during periods of critical short supplies. The survey is a cooperative data collection effort between EIA and the states participating in the survey; (5) Annual Estimated Number of Respondents: 12,203 Respondents; (6) Annual Estimated Number of Total Responses: 112,911; (7) Annual Estimated Number of Burden Hours: 56,811 hours; (8) Annual Estimated Reporting and Recordkeeping Cost Burden: EIA estimates that there are no additional costs to respondents associated with the surveys other than the costs associated with the burden hours.

Authority: Section 13(b) of the Federal Energy Administration Act of 1974, Pub. L. 93-275, codified as 15 U.S.C. 772(b)

Issued in Washington, DC, on May 1, 2014.
Stephen J. Harvey,
Assistant Administrator for Energy Statistics, U.S. Energy Information Administration.

[FR Doc. 2014-10573 Filed 5-7-14; 8:45 am]

BILLING CODE 6450-01-P